DEPARTMENT OF ENERGY

Advanced Scientific Computing Advisory Committee

AGENCY: Department of Energy, Office of Science.

ACTION: Notice of Open Meeting.

SUMMARY: This notice announces a meeting of the Advanced Scientific Computing Advisory Committee (ASCAC). The Federal Advisory Committee Act (Pub. L. 92-463, 86 Stat. 770) requires that public notice of these meetings be announced in the Federal Register.

DATES: Tuesday, March 27, 2012; 9 a.m.-5 p.m. and Wednesday, March 28, 2012; 9 a.m.-12 p.m.

ADDRESSES: American Geophysical Union (AGU), 2000 Florida Avenue NW., Washington, DC 20009-1277.

FOR FURTHER INFORMATION CONTACT: Melea Baker, Office of Advanced Scientific Computing Research, SC-21/Germantown Building, U.S. Department of Energy, 1000 Independence Avenue SW., Washington, DC 20585-1290, Telephone (301) 903-7486.

SUPPLEMENTARY INFORMATION: Purpose of the Meeting: The purpose of this meeting is to provide advice and guidance to the Department of Energy on scientific priorities within the field of advanced scientific computing research.

Tentative Agenda Topics

• View from Washington

• View from Germantown

• Update on Exascale

• ARRA projects—Magellan final report, Advanced Networking update

• Status from Computer Science COV

• Early Career technical talks

• Summary of Applied Math and Computer Science Workshops

• ASCR's new SBIR awards

• Data-intensive Science

• Public Comment (10-minute rule)

Public Participation: The meeting is open to the public. A webcast of this meeting may be available. Please check the Committee's Web site below for updates and information on how to view the meeting. If you would like to file a written statement with the Committee, you may do so either before or after the meeting. If you would like to make oral statements regarding any of the items on the agenda, you should contact Melea Baker at (301) 903-7486 or by email: Melea.Baker@science.doe.gov. You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for viewing on the U.S. Department of Energy's Office of Advanced Scientific Computing Web site at: www.sc.doe.gov/ascr/ascac/.

Issued at Washington, DC, on February 27, 2012.
LaTanya R. Butler,
Acting Deputy Committee Management Officer.

[FR Doc. 2012-5147 Filed 3-1-12; 8:45 am]

BILLING CODE 6450-01-P